DEPARTMENT OF TRANSPORTATION

Pipeline and Hazardous Materials Safety Administration

[Docket ID PHMSA-2012-0319]

Pipeline Safety: Annual Reports and Validation

AGENCY: Pipeline and Hazardous Materials Safety Administration (PHMSA), DOT.

ACTION: Notice of extension of submittal deadline for calendar year 2012 gas transmission and gathering annual reports, remind pipeline owners and operators to validate their Operator Identification Number data, and request supplemental reports to correct gas transmission and liquefied natural gas annual report data issues.

SUMMARY: Over the past three years, PHMSA has made a number of amendments to pipeline data regulations and reporting forms for gas, hazardous liquids, and liquefied natural gas (LNG) operators. Most recently, on December 5, 2012, the Office of Management and Budget approved revisions to the gas transmission and gathering annual report. Based on the significant changes to the gas transmission and gathering annual report, PHMSA is extending the filing deadline for calendar year 2012 data from March 15, 2013, to June 15, 2013. In addition, certain operators with Operator Identification Numbers (OPID) established prior to January 1, 2011, are required to validate their OPID data before June 30, 2012. PHMSA has determined that a number of operators have not completed their OPID data validations. Therefore, PHMSA is using this notice to remind operators to validate their OPID data. PHMSA has also noticed that annual reports submitted by gas transmission and LNG operators contain data that conflicts with other required reports submitted to PHMSA. Operators should review their annual report data to ensure it is accurate and submit supplemental reports to correct errors.

DATES: The filing deadline for calendar year 2012 data for the gas transmission and gathering annual report is extended to June 15, 2013.

FOR FURTHER INFORMATION CONTACT: Blaine Keener, National Field Coordinator, by telephone at 202-366-0970 or by email at blaine.keener@dot.gov.

SUPPLEMENTARY INFORMATION:

Submittal Deadline for Calendar Year 2012 Gas Transmission and Gathering Annual Reports

On December 5, 2012, the Office of Management and Budget approved revisions to the gas transmission and gathering annual report (PHMSA F-7100.2-1). Based on the significant changes to the report, PHMSA is extending the filing deadline for calendar year 2012 data from March 15, 2013 to June 15, 2013. Docket PHMSA-2012-0024 includes details about the changes to the report.

PHMSA anticipates enabling the online submittal of gas transmission and gathering annual reports no later than March 1, 2013. When the online reporting system is available, PHMSA will send an email to pipeline operator staff who submitted calendar year 2011 gas transmission and gathering annual reports.

Validation

A final rule published in the Federal Register on November 26, 2010, (75 FR 72878) established new regulations (49 CFR §§ 191.22 and 195.64) requiring certain pipeline operators and LNG operators established prior to January 1, 2011, to validate data on file with PHMSA before June 30, 2012. PHMSA extended the compliance deadline for completing validation to September 30, 2012, in Advisory Bulletin ADB-2012-04, published in the Federal Register on March 21, 2012, (77 FR 16471). Two types of gas distribution pipeline operators, master meter operators and small LPG operators, are not required to complete validation. All other pipeline operators and LNG operators that received an OPID from PHMSA prior to January 1, 2011 are required to validate their OPID data.

Based on validation data collected through the end of November 2012, approximately sixteen percent of operators with an OPID that were required to validate their data had not complied with this requirement. To avoid enforcement action, these operators should log into the on-line PHMSA Portal at https://portal.phmsa.dot.gov/phmsaportallanding and complete their validation. Any operator that has not registered staff in the PHMSA Portal must register by following the instructions at http://opsweb.phmsa.dot.gov/portal_message/PHMSA_Portal_Registration.pdf before validation can be completed.

Gas Transmission Annual Reports—Incidents in High Consequence Areas

From calendar year 2004 through 2009 inclusive, PHMSA collected data about incidents in high consequence areas (HCAs) as part of gas integrity management performance reports. Starting with calendar year 2010, this incident data became integrated in the gas transmission and gathering annual report. Gas transmission pipeline operators are also required to submit a gas transmission and gathering incident report for each incident. Since 2004, gas transmission and gathering incident reports have indicated whether the incident occurred in an HCA. “Incidents occurring in HCA” data from gas integrity management performance reports, gas transmission annual reports, and incident reports is publicly available on the PHMSA Web site at http://primis.phmsa.dot.gov/gasimp/pm_summary2.htm.

For all years except 2009, the numbers from “Incidents occurring in HCA” data, included in the integrity management performance reports and annual reports do not match the number from incident reports. While the number of “Incidents occurring in HCA” data matches for 2009, the OPIDs detailed in the integrity management performance reports do not match the OPIDs in the incident reports. Gas transmission operators who have reported incidents in HCAs from 2004 through 2011 in either gas integrity management performance reports, gas transmission annual reports, or incident reports should submit supplemental reports as needed to correct the data.

Gas integrity management performance reports can be created or supplemented by sending changes to blaine.keener@dot.gov. Gas transmission annual reports and incident reports from 2010 forward can be created or supplemented in the PHMSA Portal at https://portal.phmsa.dot.gov/phmsaportallanding. Incident reports from 2004 through 2009 inclusive can be created or supplemented by sending an email to InformationResourcesManager@dot.gov.

Liquefied Natural Gas Annual Reports/Incidents and Safety-Related Conditions

Since calendar year 2010, LNG operators have been required to submit annual reports to PHMSA. Part C of the annual report includes data about incidents and Part D includes data about safety-related condition (SRC) reports. LNG operators are also required to submit separate reports to PHMSA for incidents and safety-related conditions.

Based on the LNG data available at the end of November 2012, there are inconsistencies between the data for annual reports, incident reports, and SRC reports. Although there have been no LNG incident reports submitted, LNG annual report data indicates there was one LNG incident in 2010 and another in 2011. PHMSA's SRC report data indicates there were five LNG safety-related conditions reported in 2010 and 2011. However, LNG annual reports indicate 264 safety-related conditions for 2010 and 2011 combined. LNG operators should review their annual reports and SRC reports and submit supplemental reports as needed to correct the data.

LNG annual report data and SRC report data can be downloaded at the following URL: http://phmsa.dot.gov/pipeline/library/data-stats.

LNG annual and incident reports can be submitted and supplemented in the PHMSA Portal at https://portal.phmsa.dot.gov/phmsaportallanding. SRC reports can be created or supplemented by sending an email to InformationResourcesManager@dot.gov.

Jeffrey D. Wiese,
Associate Administrator for Pipeline Safety.

[FR Doc. 2013-01619 Filed 1-25-13; 8:45 am]

BILLING CODE 4910-60-P